DEPARTMENT OF COMMERCE

United States Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-13 Petitioners for License to File for Foreign Patents.” This action is being taken to update the Privacy Act notice. We invite the public to comment on the amendments noted in this publication.

DATES: Written comments must be received no later than May 1, 2013. The amendments will become effective as proposed on May 1, 2013, unless the USPTO receives comments that would result in a contrary determination.

ADDRESSES: You may submit written comments by any of the following methods:

• Email: Raul.Tamayo@uspto.gov. Include “Privacy Act PAT-TM-13 comment” in the subject line of the message.

• Fax: (571) 273-7728, marked to the attention of Raul Tamayo.

• Mail: Raul Tamayo, Office of Patent Legal Administration, Office of the Deputy Commissioner for Patent Examination Policy, United States Patent and Trademark Office, P.O. Box 1450, Alexandria, VA 22313-1450.

• Federal Rulemaking Portal: http://www.regulations.gov.

All comments received will be available for public inspection at the Federal rulemaking portal located at www.regulations.gov.

FOR FURTHER INFORMATION CONTACT: Raul Tamayo, Office of Patent Legal Administration, Office of the Deputy Commissioner for Patent Examination Policy, United States Patent and Trademark Office, P.O. Box 1450, Alexandria, VA 22313-1450, (571) 272-7728.

SUPPLEMENTARY INFORMATION: The United States Patent and Trademark Office (USPTO) is giving notice of an amendment to a system of records that is subject to the Privacy Act of 1974. This system of records maintains information on patent applicants and their authorized representatives who request a license to file a patent application in a foreign country. The Privacy Act notice is being updated with the current address and departmental information for the system location and system manager. The routine uses of records maintained in the system have been updated to include use in law enforcement, audits and oversight activities, and distribution to contractors, all uses commonly published in other agency system of records notices. The descriptions of storage, retrievability, and safeguards have been revised to reflect current database practices. The rule references for the notification procedure and contesting record procedures have been updated to correspond to the current statutes and rules for those items as related to the USPTO.

The amended Privacy Act system of records notice, “COMMERCE/PAT-TM-13 Petitioners for License to File for Foreign Patents,” is published in its entirety below.

COMMERCE/PAT-TM-13

System name:

Petitioners for License to File for Foreign Patents.

Security classification:

Unclassified.

System location:

Patent Examining Operation, Technology Center 3600, United States Patent and Trademark Office, 501 Dulany Street, Alexandria, VA 22314.

Categories of individuals covered by the system:

Petitioners for license to file a patent application in any foreign country.

Categories of records in the system:

Petitioner's name, address, and description of subject matter, or, where a corresponding U.S. application has been filed, identification of applicant, application serial number, filing date, title to invention, applicant's address and addresses of applicant's duly appointed representatives.

Authority for maintenance of the system:

35 U.S.C. 1, 6, and 184.

Purpose(s):

To carry out the duties of the USPTO to grant and issue patents, including the requirements for authorizing the filing of a patent application in a foreign country under 35 U.S.C. 184.

Routine uses of records maintained in the system, including categories of users and the purposes of such uses:

(1) Routine uses will include disclosure for law enforcement purposes to the appropriate agency or other authority, whether federal, state, local, foreign, international or tribal, charged with the responsibility of enforcing, investigating, or prosecuting a violation of any law, rule, regulation, or order in any case in which there is an indication of a violation or potential violation of law (civil, criminal, or regulatory in nature).

(2) Routine uses will include disclosure to an agency, organization, or individual for the purpose of performing audit or oversight operations as authorized by law, but only such information as is necessary and relevant to such audit or oversight function.

(3) Routine uses will include disclosure to contractors and their agents, grantees, experts, consultants, and others performing or working on a contract, service, grant, cooperative agreement, or other work assignment for the United States Patent and Trademark Office, when necessary to accomplish an agency function related to this system of records. Individuals provided information under this routine use are subject to the same Privacy Act requirements and limitations on disclosure as are applicable to the United States Patent and Trademark Office employees.

(4) Routine uses will also include the Prefatory Statement of General Routine Uses Nos. 1-5, 8-10, and 13, as found at 46 FR 63501-63502 (December 31, 1981).

Disclosure to consumer reporting agencies:

Not applicable.

Policies and practices for storing, retrieving, accessing, retaining, and disposing of records in the system:

Storage:

Paper copy and electronic storage media.

Retrievability:

By number assigned (called P or R number) or by serial number, title of invention, applicant information or docket number, if any. Records are stored in a searchable database.

Safeguards:

Buildings employ security guards. Records are maintained in areas accessible only to authorized personnel who are properly screened, cleared, and trained. Where information is retrievable by computer, all safeguards appropriate to secure the system (hardware and software) are utilized.

Retention and disposal:

Records retention and disposal is in accordance with the series records schedules.

System manager(s) and address:

Director, Patent Examining Technology Center 3600, United States Patent and Trademark Office, P.O. Box 1450, Alexandria, VA 22313-1450.

Notification procedure:

Information about the records contained in this system may be obtained by sending a request in writing, signed, to the system manager at the address above or to the address provided in 37 CFR part 102 subpart B for making inquiries about records covered by the Privacy Act. Requesters should provide their name, address, and record sought (including serial number or P number, if known) in accordance with the procedures for making inquiries appearing in 37 CFR part 102 subpart B.

Record access procedures:

Requests from individuals should be addressed as stated in the notification section above.

Contesting record procedures:

The general provisions for access, contesting contents, and appealing initial determinations by the individual concerned appear in 37 CFR part 102 subpart B. Requests from individuals should be addressed as stated in the notification section above.

Record source categories:

Subject individuals or their duly appointed representatives.

Exemptions claimed for the system:

None.

Dated: March 26, 2013.
Susan K. Fawcett,
Records Officer, USPTO, Office of the Chief Information Officer.

[FR Doc. 2013-07393 Filed 3-29-13; 8:45 am]

BILLING CODE 3510-16-P